COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: September 22, 2024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

On July 19, 2024 (89 FR 58723), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7530-01-455-6055—Folders, File, Manila, ⅕ Cut, Legal, PG/25

7530-01-455-6056—Folders, File, Manila, ½ Cut, Legal, PG/24

7530-01-645-8092—File Folder, Single Tab, ⅓ Cut, Legal, Position 1

7530-01-645-8094—File Folder, Single Tab, ⅓ Cut, Legal, Position 2

7530-01-645-8095—File Folder, Single Tab, ⅓ Cut, Legal, Position 3

7530-01-661-8831—Booklet Envelope, Poly, String and Button, Side Loading, Red, 11⅝″ x 9¾″

7530-01-661-9618—Envelope, Poly, Hook and Loop, Top Loading, Clear, 11⅝″ x 9¾″

Authorized Source of Supply: Association for Vision Rehabilitation and Employment, Inc., Binghamton, NY

Contracting Activity: GSA/FAS ADMIN SVCS ACQUISITION BR(2, NEW YORK, NY

Service(s)

Service Type: Switchboard Operation

Mandatory for: Department of Veterans Affairs, Michael E. DeBakey VA Medical Center, Houston, TX, 2002 Holcombe Boulevard, Houston, TX

Authorized Source of Supply: Lighthouse for the Blind of Houston, Houston, TX

Contracting Activity: VETERANS AFFAIRS, DEPARTMENT OF, 256-NETWORK CONTRACT OFC 16(00256)

Service Type: Janitorial/Custodial

Mandatory for: US Army, PVT Sterling L. Morelock USARC, Pittsburgh, PA, 7100 Leech Farm Road, Pittsburgh, PA

Contracting Activity: DEPT OF THE ARMY, W6QK ACC-PICA

Service Type: Janitorial/Grounds Maintenance

Mandatory for: US Army Corps of Engineers, East Totten Trail Recreation Area, Lake Sakakawea, Riverdale, ND, 201 1st Street, Riverdale, ND

Authorized Source of Supply: MVW Services, Inc., Minot, ND

Contracting Activity: DEPT OF THE ARMY, W071 ENDIST OMAHA

Service Type: Laundry Service

Mandatory for: Navy Bureau of Medicine and Surgery (BUMED), 2300 East Street Northwest, Washington, DC

Mandatory for: Malcolm Grow Medical Center, Andrews AFB, MD

Mandatory for: Walter Reed Army Medical Center: 6900 Georgia Avenue NW, Washington, DC

Mandatory for: DiLorenzo Army Health Clinic, Pentagon, Arlington, VA

Mandatory for: Kimbrough Ambulatory Care Center, Fort Meade, MD

Mandatory for: National Naval Medical Center: Naval Surface Warfare Center, Bethesda, MD

Mandatory for: US NAVY, Patuxent River Naval Station and Branch Naval Health Clinics, Patuxent River, MD, 47149 Buse Road, Patuxent River, MD

Authorized Source of Supply: Rappahannock Goodwill Industries, Inc., Fredericksburg, VA

Contracting Activity: DEPT OF THE ARMY, W40M RHCO-ATLANTIC USAHCA

Service Type: Grounds Maintenance

Mandatory for: US Air Force, Patrick Space Force Base, Athletic Fields, Patrick Air Force Base, FL, 1225 Pershing Pl, Patrick Air Force Base, FL

Authorized Source of Supply: Brevard Achievement Center, Inc., Rockledge, FL

Contracting Activity: DEPT OF THE AIR FORCE, FA2521 45 CONS LGC

Service Type: Food Service Attendant

Mandatory for: US Air Force, Alabama Air National Guard, HQ 117th Air Refueling Wing, Birmingham, AL, 5401 East Lake Boulevard, Birmingham, AL

Authorized Source of Supply: Alabama Goodwill Industries, Inc., Birmingham, AL

Contracting Activity: DEPT OF THE ARMY, W7MT USPFO ACTIVITY ALANG 117

Service Type: Corrosion Repair Services

Mandatory for: US Marine Corps, Marine Corps Base Hawaii (MCBH), Corrosion Rehabilitation Facility, Building 3016 Harris Ave, Kaneohe Bay, HI

Authorized Source of Supply: Goodwill Contract Services of Hawaii, Inc., Honolulu, HI

Contracting Activity: DEPT OF THE NAVY, HQBN MCBH

Service Type: Grounds Maintenance

Mandatory for: US Army Reserve, Myrtle Beach USARC, Myrtle Beach, SC, 3392 Phillis Blvd., Myrtle Beach, SC

Authorized Source of Supply: Horry County Disabilities and Special Needs Board, Conway, SC

Contracting Activity: DEPT OF THE ARMY, W074 ENDIST CHARLESTON

Service Type: Switchboard Operation

Mandatory for: Department of Veterans Affairs, Birmingham VA Medical Center, Birmingham, AL, 700 19th Street South, Birmingham, AL

Authorized Source of Supply: Alabama Goodwill Industries, Inc., Birmingham, AL

Contracting Activity: VETERANS AFFAIRS, DEPARTMENT OF, 247-NETWORK CONTRACT OFC 7(00247)

Service Type: Grounds Maintenance

Mandatory for: Prince George's County Memorial USARC, 6601 Baltimore Avenue, Riverdale, MD

Contracting Activity: DEPT OF THE ARMY, W6QM MICC-FT DIX (RC-E)

Service Type: Tactical Vehicle Wash Facility

Mandatory for: Yano Tactical Vehicle Wash Facility, Dir of Training Sustainment, Harmony Church Fort Benning, GA, Building 5525, Fort Benning, GA

Authorized Source of Supply: Power Works Industries, Inc., Columbus, GA

Contracting Activity: DEPT OF THE ARMY, W6QM MICC-FT MOORE

Service Type: Janitorial/Custodial

Mandatory for: US Army Corps of Engineers, Coralville Lake Office Project, Iowa City, 2850 Prairie Du Chien Road NE, Iowa City, IA

Contracting Activity: DEPT OF THE ARMY, W07V ENDIST ROCK ISLAND

Michael R. Jurkowski,
Director, Business Operations.

[FR Doc. 2024-18927 Filed 8-22-24; 8:45 am]

BILLING CODE 6353-01-P